SOCIAL SECURITY ADMINISTRATION

[Docket No. SSA-2014-0070]

Monitoring Reviews for Certain Representative Payees

AGENCY: Social Security Administration.

ACTION: Notice; request for comments.

SUMMARY: We are requesting information from the public regarding how we should conduct periodic onsite reviews of certain representative payees under Titles II, VIII, and XVI of the Social Security Act (Act) and how we can improve the representative payee program. We are seeking this information to decide whether and how we should make any changes to the representative payee program to further protect our beneficiaries from misuse of their benefits by representative payees.

DATES: To ensure that your comments are considered, we must receive them no later than March 9, 2015.

ADDRESSES: You may submit comments by any one of three methods—Internet, fax, or mail. Do not submit the same comments multiple times or by more than one method. Regardless of which method you choose, please state that your comments refer to Docket No. SSA-2014-0070 so that we may associate your comments with the correct document.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the Search function to find docket number SSA-2014-0070. The system will issue you a tracking number to confirm your submission. You will not be able to view your comment immediately because we must post each comment manually. It may take up to a week for your comment to be viewable.

2. Fax: Fax comments to (410) 966-2830.

3. Mail: Address your comments to the Office of Regulations and Reports Clearance, Social Security Administration, 3100 West High Rise Building, 6401 Security Boulevard, Baltimore, Maryland 21235-6401.

Comments are available for public viewing on the Federal eRulemaking portal at http://www.regulations.gov or in person, during regular business hours, by arranging with the contact person identified below.

FOR FURTHER INFORMATION CONTACT: Eric Ice, Office of Income Security Programs, Social Security Administration, 6401 Security Boulevard, Baltimore, MD 21235-6401, (410) 966—3233. For information on eligibility or filing for benefits, call our national toll-free number, 1-800-772-1213 or TTY 1-800-325-0778, or visit our Internet site, Social Security Online, at http://www.socialsecurity.gov.

SUPPLEMENTARY INFORMATION:

Background

A representative payee is a third party who manages the Social Security benefits or Supplemental Security Income (SSI) payments of a beneficiary ¹ to meet the beneficiary's needs for food, clothing, and shelter. After meeting the beneficiary's basic needs, the representative payee must conserve any remaining Social Security benefits or payments for the beneficiary's future use. We presume that a legally competent adult beneficiary is capable of managing or directing someone else to manage his or her benefits, unless there are indicators or evidence to the contrary. We are required to pay children under age 15 and legally-incompetent adult beneficiaries through representative payees.

¹ In this notice, we use the term “beneficiary” to include a beneficiary under Title II of the Act, a beneficiary under Title VIII of the Act, and an SSI recipient under Title XVI of the Act.

We monitor representative payees' fiduciary performance in several ways. For certain representative payees, one of the ways we monitor their fiduciary performance is through our periodic onsite review process. The Act requires us to use onsite reviews for:

○ All fee-for-service representative payees;

○ all organizational representative payees serving 50 or more beneficiaries or recipients; and

○ all individual representative payees serving 15 or more beneficiaries or recipients. In addition, we also use onsite reviews for state mental hospitals.²

² 42 U.S.C. 405(j)(3) and 1383(a)(2)(C); 42 U.S.C. 405(j)(6)(A) and 1383(a)(2)(G).

We also conduct discretionary site reviews of representative payees beyond those required by the Act. The site reviews help us determine whether representative payees are performing their duties and responsibilities satisfactorily and complying with our rules. The reviews include:

○ A face-to-face interview with the representative payee and, in most cases, a visit to the representative payee's location;

○ interviews with a sample of beneficiaries represented by the representative payee;

○ examination of financial records; and

○ examination of supporting documentation.

When we uncover problems during the reviews, we resolve the problems with the representative payee and remind the representative payee about his or her duties and responsibilities. Sometimes during site reviews, we uncover poor performance or misuse of funds by a representative payee. When we are unable to resolve a major performance issue with a representative payee, we remove the representative payee and find a new representative payee for the affected beneficiaries, or pay the beneficiaries directly.

Request for Comments

To identify ways we may enhance our periodic onsite review process and improve the representative payee program, we are asking for your comments on the following questions.

(1) Besides those representative payees that the Act requires us to review, what representative payees should we include in our site review process? What criteria should we use to select representative payees for review?

(2) What data sources should we consider when we select which representative payees to review, and which of these data sources should we use to detect improper use of beneficiary payments?

(3) What tools or processes should we use to hold our representative payees accountable for their responsibilities?

(4) How can we reduce the likelihood of mismanagement or misuse of a beneficiary's payments?

(5) Currently, when we do a site review we focus on how a representative payee manages a beneficiary's funds. Should our reviews focus on any other issues?

(6) What ideas do you have to improve the representative payee program overall?

Please see the information under ADDRESSES earlier in this document for methods to give us your comments. We will not respond to your comments, but we will consider them as we review our policies and instructions to determine if we should revise or update them.

Dated: January 13, 2015.
Carolyn W. Colvin,
Acting Commissioner of Social Security.

[FR Doc. 2015-00931 Filed 1-20-15; 8:45 am]

BILLING CODE 4191-02-P